SURFACE TRANSPORTATION BOARD

Senior Executive Service Performance Review Board (PRB) and Executive Resources Board (ERB) Membership

AGENCY: Surface Transportation Board.

ACTION: Senior Executive Service Performance Review Board (PRB) and Executive Resources Board (ERB) membership.

Effective immediately, the memberships of the PRB and ERB are as follows:

Performance Review Board

Rachel Campbell, Chairman

Kristen Monaco, Member

Janie Sheng Lee, Member

Danielle Gosselin (Alternate Member)

Executive Resources Board

Danielle Gosselin, Chairman

Neil Moyer, Member

Mai Dinh, Member

Anika Cooper (Alternate Member)

FOR FURTHER INFORMATION CONTACT: If you have any questions, please contact Jennifer Layne at jennifer.layne@stb.gov or 202-245-0340.

(Authority: 5 U.S.C. 4314(c)(4))

Jeffrey Herzig,
Clearance Clerk.

[FR Doc. 2024-20374 Filed 9-9-24; 8:45 am]

BILLING CODE 4915-01-P